DEPARTMENT OF DEFENSE

Office of the Secretary

[Transmittal No. 22-57]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(1) arms sales notification is published to fulfill the requirements of section 155 of Public Law 104-164 dated July 21, 1996. The following is a copy of a letter to the Speaker of the House of Representatives with attached Transmittal 22-57 and Policy Justification.

Dated: August 5, 2024.
Aaron T. Siegel,
Alternate OSD Federal Register Liaison Officer, Department of Defense.

Transmittal No. 22-57

Notice of Proposed Issuance of Letter of Offer

Pursuant to Section 36(b)(1)

of the Arms Export Control Act, as amended

(i) Prospective Purchaser: Government of Australia

(ii) Total Estimated Value:

Major Defense Equipment * $ 0 million

Other $162 million

TOTAL $162 million

(iii) Description and Quantity or Quantities of Articles or Services under Consideration for Purchase: Foreign Military Sales (FMS) case AT-P-KOB was below congressional notification threshold at $89.8 million for non-MDE MH-60R sustainment. The Government of Australia has requested the case be amended to include additional non-MDE MH-60R sustainment items and services. This case amendment will increase the total case value above the non-MDE notification threshold and thus require notification of the entirety of the FMS case.

Major Defense Equipment (MDE):

None

Non-MDE:

Included are MH-60R aircraft sustainment consumables and spare and repair parts; and other related elements of logistical and program support.

(iv) Military Department: Navy (AT-P-KOB)

(v) Prior Related Cases, if any: AT-P-KOA

(vi) Sales Commission, Fee, etc., Paid, Offered, or Agreed to be Paid: None known at this time

(vii) Sensitivity of Technology Contained in the Defense Article or Defense Services Proposed to be Sold: None

(viii) Date Report Delivered to Congress: October 19, 2022

* As defined in Section 47(6) of the Arms Export Control Act.

POLICY JUSTIFICATION

Australia—MH-60R Sustainment

The Government of Australia has requested to buy additional non-MDE MH-60R sustainment items and services that will be added to a previously implemented case. The original FMS case, valued at $89.8 million, included MH-60R sustainment. The estimated total cost is $162 million.

This proposed sale will support the foreign policy and national security objectives of the United States. Australia is one of our most important allies in the Western Pacific. The strategic location of this political and economic power contributes significantly to ensuring peace and economic stability in the region. It is vital to the U.S. national interest to assist our ally in developing and maintaining a strong and ready self-defense capability.

The proposed sale will continue Australia's capability to interoperate with U.S. forces by maintaining alignment with the U.S. Navy's MH-60R program and maintain mission readiness to deter regional threats and strengthen its homeland defense. Australia will have no difficulty absorbing this equipment and services into its armed forces.

The proposed sale of this equipment and support will not alter the basic military balance in the region.

The principal contractor will be Lockheed Martin, Owego, NY. There are no known offset agreements proposed in connection with this potential sale.

Implementation of this proposed sale will not require the assignment of any additional U.S. Government or contractor representatives to Australia.

There will be no adverse impact on U.S. defense readiness as a result of this proposed sale.

[FR Doc. 2024-17593 Filed 8-7-24; 8:45 am]

BILLING CODE 6001-FR-P